INTERNATIONAL TRADE COMMISSION

[Investigation No. 337-TA-1470]

Certain Open-Ear Earpiece Devices; Institution of Investigation

AGENCY: U.S. International Trade Commission.

ACTION: Notice.

SUMMARY: Notice is hereby given that a complaint was filed with the U.S. International Trade Commission on September 23, 2025, under section 337 of the Tariff Act of 1930, as amended, on behalf of Bose Corporation of Framingham, Massachusetts. Supplements to the complaint were filed on November 20 and 24, 2025, and December 4 and 9, 2025. The complaint, as supplemented, alleges violations of section 337 based upon the importation into the United States, the sale for importation, and the sale within the United States after importation of certain open-ear earpiece devices by reason of the infringement of certain claims of U.S. Patent No. 11,140,469 (“the '469 patent”); U.S. Patent No. 11,659,313 (“the '313 patent”); U.S. Patent No. 11,997,442 (“the '442 patent”); U.S. Patent No. 12,356,132 (“the '132 patent”); U.S. Patent No. 12,155,984 (“the '984 patent”); and U.S. Patent No. D1,051,103 (“the D103 patent”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on December 18, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-5 and 8-17 of the '469 patent; claims 1-4 and 6-20 of the '313 patent; claims 1-7, 9-10, 13, 15-17, and 20-25 of the '442 patent; claims 1-7, 10-12, and 16-21 of the '132 patent; claims 1, 3-9, 11-14, and 16-19 of the '984 patent; and the claim of the D103 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “earpiece devices, or more specifically, open-ear earbuds which, unlike traditional in-ear or over-ear headphones, do not block the ear canal, allowing users to hear both their audio and ambient sounds simultaneously”;

(3) For the purpose of the investigation so instituted, the following are hereby named as parties upon which this notice of investigation shall be served:

(a) The complainant is: Bose Corporation, 100 Mountain Road, Framingham, MA 01701.

(b) The respondents are the following entities alleged to be in violation of section 337, and are the parties upon which the complaint is to be served:

Dongguan Yuanyu Electronic Co., Ltd. d/b/a Ituoray, No. 36, 3rd Road, Beian, Huangjiang Town, Dongguan City, Guangdong Province, China 523759

Liu, Yiming d/b/a Yomdud, No. 7, Xinzhongdong Land, Xincheng District, Xi'an, China 710000

King Lucky Co., Ltd., 162-170 Pai Road, Dalian Room I-1, 4/F, Phase II, Golden Dragon Industrial Center, Kwai Chung, New Territories 999077, Hong Kong Special Administrative Region, New Territories, China

Shenzhen Zhichuang All Technology Co., Ltd. and/or, Abbott Sanag (UK) Group Co., Ltd. d/b/a Sanag, 31st Floor, West Tower of Xinghe Twin Towers, No. 8 Yaxing Rd., Bantian St., Longgang District, Shenzhen, China

and/or

Z015 13 Quad Road, East Lane, Wembley, England, HA9 7NE

Lingzhong Zhao d/b/a Jzones, No. 26, Group 6, Kebei Village, Shibao, Gulin, Sichuan, China 646599

Shenzhen Mengmengwei Electronic Commerce Co., Ltd. d/b/a Lytmi, Room 522, Building A1, 5th Floor, Xuexiangyuan, Yuanchuang Space, Xiangjiaotang Community Bantian Subdistrict, Shenzhen, Longgang District, Guangdong Province, 51811 China

Shenzhen Maosong Tech. Co., Ltd. d/b/a Ansten, 4 dozens, 4th floor, No.1, factory building, Lingya Industrial Park, No.1 Road, Tangtou Community, Shiyan Street, Bao'an District, Shenzhen, China

U2O Global Co., Ltd. d/b/a IWalk, U2O Building, Huanzhu Road 385, Jimei, Xiamen, Fujian, China

Shenzhen Meichi Electronics Co., Ltd. d/b/a HOMSCAM, Room B312 B313, 3/F, Huafeng Business Mansion Qianjin 1st Road, Xin'an 25 Area, Baoan District, Shenzhen, China

Shenzhen Shixinhe Dianzi Shangwu Co., Ltd., d/b/a XINHESHUMA, Huaqiang North Street, Futian District, Shenzhen 4159 Futian District 518048, Guangdong Province, Shenzhen City, China

Shenzhen Landscape Art Co., Ltd. d/b/a Piluyaa, No. 2, Laoweidong 1st Lane, Dafen Oil Painting Village, Buji Subdistrict, Longgang District, Shenzhen City, Guangdong Province, China 518000

Shenzhen Zhiquhui Technology Co., Ltd. d/b/a Yeabomy, 602, 6/F, China Zhenhua Industrial Park Bldg., No 64 Heping Road, Qinghua Community, Longhua Shenzhen, China

Shenzhen Carnival Digital Technology Co., Ltd. and/or, Shenzhen Lida Tech. Communication Co., Ltd. d/b/a Shijiaet, Shenzhen City, Room 403, No. 33, Second Floor, Chiwei Village, Chiwei Community, Futian District, Guangdong Province, 518000 China

and/or

13C, Building 4, Yingjun Nianhua, No. 3, Lingbei Road Nanling Village Community, Nanwan St., Longgand District, Shenzhen China

Shenzhen Shibaishi Dianzi Shangwu Co., Ltd., d/b/a Jiayuu and/or YouDaxing, Floor 4, Block C, Electronic Technology Building, No. 2070, Shennan Middle Road, Fuqiang Community Huaqiang North Street, Futian district 518048, Guangdong Province, Shenzhen, China

Buy Worry-Free Trade Co., Ltd. d/b/a BST Supply I, RM 01, 26TH FLOOR, Working View Comm Building, 21 Yiu Wah Street, Causeway Bay, Hong Kong Sha Tin District 999077, Hong Kong Special Administrative Region, New Territories, China

Hong Kong Shihui Technology Co., Ltd. d/b/a Wdingxing, Unit 616 6/F Kam Teem Industrial Building, 135 Connaught Rd., West Sai Ying Pun HK, Central and Western District 999077, Hong Kong Special Administrative Region, Hong Kong Island, China

Hong Kong Chuanboyao Technology Ltd., d/b/a Mmanage and/or Ffaithful, Unit 616 6/F Kam Teem Industrial Building, 135 Connaught Rd., West Sai Ying Pun HK, Central and Western District 999077, Hong Kong Special Administrative Region, Hong Kong Island, China

Hong Kong Dora Cross-Border Trading Co., Ltd. d/b/a Doraomi, Room A17, 29th Floor, Ning Chun Centre, 7 Shing Yip Street, Kwun Tong, Hong Kong, Kwun Tong District 999077, Hong Kong Special Administrative Region, Kowloon, China

Hong Kong Santaizi Technology Co., Ltd. d/b/a STZ Sport, Room A17, 29/F, No.7 Shing Yip Street, Kwun Tong, Hong Kong, Kwun Tong District 999077, Hong Kong Special Administrative Region, Kowloon, China

Shenzhen Shiyi Gian Maoyi Co., Ltd. d/b/a Classic Innovation, 303-1, No. 3, Zone 1, Guangyayuan Industrial Zone, Wuhe Community, Bantian Street, Longgang District, Shenzhen Longgang District 518172, Guangdong Province, Shenzhen, China

Shenzhen Yanyin Technology Co., Ltd., No. 138, Fuhua 1st Road, Fu'an Community, Futian Street, Futian District, Shenzhen, China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 19, 2025.
Lisa Barton,
Secretary to the Commission.

[FR Doc. 2025-23721 Filed 12-22-25; 8:45 am]

BILLING CODE 7020-02-P